DEPARTMENT OF HOMELAND SECURITY

National Communications System

[Docket No. NCS—2008-0001]

National Security Telecommunications Advisory Committee

AGENCY: National Communications System, DHS.

ACTION: Notice of Time Change in Open Session.

SUMMARY: The President's National Security Telecommunications Advisory Committee (NSTAC) will meet in a partially closed session.

DATE: Thursday, May 1, 2008, from 2:30 p.m. until 5 p.m.

ADDRESSES: The meeting will take place at the U.S. Chamber of Commerce, 1615 H St., NW., Washington, DC. If you desire meeting materials, contact Ms. Sue Daage at (703) 235-5526 or by e-mail at sue.daage@dhs.gov.

SUPPLEMENTARY INFORMATION: The information published in the Federal Register, Volume 73, No. 67, Monday, April 7, 2008, p. 18804, remains the same except for a change in the time of the NSTAC Open Session, which will now begin at 2:30 p.m. and end at 3:35 p.m.

Between 2:30 p.m. and 3:35 p.m., the NSTAC will receive government stakeholder feedback, and discuss ongoing NSTAC work on research and development, and outreach. This portion of the meeting will be open to the public. Accordingly, the time of the Closed Session is now 3:35 p.m.-5 p.m.

Lawrence Hale,
Acting Director, National Communications System.

[FR Doc. E8-9413 Filed 4-29-08; 8:45 am]

BILLING CODE 4410-10-P